DEPARTMENT OF TRANSPORTATION

Federal Aviation Administration

14 CFR Part 39

[Docket No. FAA-2014-0647; Directorate Identifier 2014-CE-027-AD; Amendment 39-17967; AD 2014-18-03]

RIN 2120-AA64

Airworthiness Directives; APEX Aircraft Airplanes

AGENCY: Federal Aviation Administration (FAA), DOT.

ACTION: Final rule; request for comments.

SUMMARY: We are adopting a new airworthiness directive (AD) for APEX Aircraft Model R 3000/160 airplanes. This AD results from mandatory continuing airworthiness information (MCAI) issued by the aviation authority of another country to identify and correct an unsafe condition on an aviation product. The MCAI describes the unsafe condition as small pieces of paint from the engine air intake box blocking the engine carburetor. We are issuing this AD to require actions to address the unsafe condition on these products.

DATES: This AD is effective October 17, 2014.

The Director of the Federal Register approved the incorporation by reference of a certain publication listed in the AD as of October 17, 2014.

We must receive comments on this AD by October 27, 2014.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC 20590, between 9 a.m. and 5 p.m., Monday through Friday, except Federal holidays.

For service information identified in this AD, contact CEAPR, Bureau de Navigabilité, 1 route de Troyes, 21121 DAROIS—France, telephone: (33) 380 35 25 22; fax: (33) 380 35 25 25; email: www.info@ceapr.com; internet: http://ceapr.com/. You may review copies of the referenced service information at the FAA, Small Airplane Directorate, 901 Locust, Kansas City, Missouri 64106. For information on the availability of this material at the FAA, call (816) 329-4148.

Examining the AD Docket

You may examine the AD docket on the Internet at http://www.regulations.gov by searching for and locating Docket No. FAA-2014-0647; or in person at the Docket Management Facility between 9 a.m. and 5 p.m., Monday through Friday, except Federal holidays. The AD docket contains this AD, the regulatory evaluation, any comments received, and other information. The street address for the Docket Office (telephone (800) 647-5527) is in the ADDRESSES section. Comments will be available in the AD docket shortly after receipt.

FOR FURTHER INFORMATION CONTACT: Sarjapur Nagarajan, Aerospace Engineer, FAA, Small Airplane Directorate, 901 Locust, Room 301, Kansas City, Missouri 64106; telephone: (816) 329-4145; fax: (816) 329-4090; email: sarjapur.nagarajan@faa.gov.

SUPPLEMENTARY INFORMATION:

Discussion

The European Aviation Safety Agency (EASA), which is the Technical Agent for the Member States of the European Community, has issued MCAI EASA AD No. 2014-0155, dated July 2, 2014 (referred to after this as “the MCAI”), to correct an unsafe condition for the specified products. The MCAI states:

An accident occurred on a DR 400 aeroplane during take-off phase. Technical investigations showed paint adherence defects inside the engine air intake box, Part Number 56.15.01.000. It was determined that the engine carburettor had been blocked by small pieces of paint from the engine air intake box, so that the engine could not deliver its maximum power and the performance of the aeroplane, notably during take-off, had been significantly degraded.

This condition, if not detected and corrected, could lead to an engine failure, possibly resulting in loss of control of the aeroplane.

To initially address this issue, DGAC France published AD 1999-053 (later revised) to require inspection of the engine air intake box. After that AD was issued, cohesion defects were found inside the laminated air ducting from engine filter to engine air intake box. Prompted by these findings, DGAC France issued AD 1999-470 to require inspection of the engine laminated air ducting.

Since DGAC France AD 1999-053 R1 and AD 1999-470 were issued, several engine failures and malfunctions have occurred due to the same root causes. Consequently, CEAPR issued SB N° 161 Revision 3 to provide more detailed inspection and replacement instructions.

For the reasons described above, this AD retains the requirements of DGAC France AD 1999-053 R1 and AD 1999-470, which are superseded, and requires repetitive inspections and, depending on findings, replacement of the engine air intake box and engine air ducting in accordance with the revised instructions.

You may examine the MCAI on the Internet at http://www.regulations.gov by searching for and locating Docket No. FAA-2014-0647.

Relevant Service Information

CEAPR has issued Mandatory Service Bulletin Number 161R3, dated September 6, 2012. The actions described in this service information are intended to correct the unsafe condition identified in the MCAI.

FAA's Determination and Requirements of the AD

This product has been approved by the aviation authority of another country, and is approved for operation in the United States. Pursuant to our bilateral agreement with this State of Design Authority, they have notified us of the unsafe condition described in the MCAI and service information referenced above. We are issuing this AD because we evaluated all information provided by the State of Design Authority and determined the unsafe condition exists and is likely to exist or develop on other products of the same type design.

FAA's Determination of the Effective Date

An unsafe condition exists that requires the immediate adoption of this AD. The FAA has found that the risk to the flying public justifies waiving notice and comment prior to adoption of this rule because there are no airplanes currently on the U.S. registry and thus, does not have any impact upon the public. Therefore, we find that notice and opportunity for prior public comment are unnecessary.

Comments Invited

This AD is a final rule that involves requirements affecting flight safety, and we did not precede it by notice and opportunity for public comment. We invite you to send any written relevant data, views, or arguments about this AD. Send your comments to an address listed under the ADDRESSES section. Include “Docket No. FAA-2014-0647; Directorate Identifier 2014-CE-027-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Costs of Compliance

We estimate that this AD will affect 0 products of U.S. registry. We also estimate that it would take about 1 work-hour per product to comply with the basic requirements of this AD. The average labor rate is $85 per work-hour.

Based on these figures, we estimate the cost of the AD on U.S. operators to be $0, or $0 per product.

In addition, we estimate that any necessary follow-on actions would take about 1 work-hour and require parts costing $2,970, for a cost of $3,055 per product. We have no way of determining the number of products that may need these actions.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2014-18-03 APEX Aircraft: Amendment 39-17967; Docket No. FAA-2014-0647; Directorate Identifier 2014-CE-027-AD.

(a) Effective Date

This airworthiness directive (AD) becomes effective October 17, 2014.

(b) Affected ADs

None.

(c) Applicability

This AD applies to APEX Aircraft Models R 3000/160 airplanes, all serial numbers, certificated in any category.

(d) Subject

Air Transport Association of America (ATA) Code 73: Engine Fuel & Control.

(e) Reason

This AD was prompted by mandatory continuing airworthiness information (MCAI) issued by the aviation authority of another country to identify and correct an unsafe condition on an aviation product. The MCAI describes the unsafe condition as paint adherence defects inside the engine air intake box leading to small pieces of paint from the engine air intake box blocking the engine carburetor. We are issuing this AD to detect and correct paint adherence defects inside the engine air intake box leading to small pieces of paint from the engine air intake box blocking the engine carburetor. This condition, if not detected and corrected, could lead to an engine failure, possibly resulting in loss of control.

(f) Actions and Compliance

Unless already done, do the following actions, as specified in paragraphs (f)(1) through (f)(4) of this AD:

(1) Within 110 hours time-in-service (TIS) after October 17, 2014 (the effective date of this AD) and repetitively thereafter at intervals not to exceed 110 hours TIS, accomplish a visual and tactile inspection of the engine air intake box (including the deflection flap) and the engine air ducting (including the area located downstream of the filter) following the Accomplishment Instructions section of CEAPR Mandatory Service Bulletin Number 161R3, dated September 6, 2012.

(2) If any paint damage such as bubbling, blistering, peeled off areas or paint detachment is found during any inspection required by paragraph (f)(1) of this AD, before further flight, replace each damaged part with an airworthy part following the Accomplishment Instructions section of CEAPR Mandatory Service Bulletin Number 161R3, dated September 6, 2012.

(3) Replacement of damaged parts on an airplane, as required by paragraph (f)(2) of this AD, does not constitute terminating action for the repetitive inspections required by paragraph (f)(1) of this AD for that airplane.

(4) As of October 17, 2014 (the effective date of this AD), do not install on any airplane a painted engine air intake box or repaired engine air ducting.

(g) Other FAA AD Provisions

The following provisions also apply to this AD:

(1) Alternative Methods of Compliance (AMOCs): The Manager, Standards Office, FAA, has the authority to approve AMOCs for this AD, if requested using the procedures found in 14 CFR 39.19. Send information to ATTN: Sarjapur Nagarajan, Aerospace Engineer, FAA, Small Airplane Directorate, 901 Locust, Room 301, Kansas City, Missouri 64106; telephone: (816) 329-4145; fax: (816) 329-4090; email: sarjapur.nagarajan@faa.gov. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(h) Related Information

Refer to MCAI European Aviation Safety Agency (EASA) AD No. 2014-0155, dated July 2, 2014, for related information. You may examine the MCAI on the Internet at http://www.regulations.gov by searching for and locating Docket No. FAA-2014-0647.

(i) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) CEAPR Mandatory Service Bulletin Number 161R3, dated September 6, 2012.

Note 1 to paragraph (i)(2)(i) of this AD: The service bulletin contains French to English translation. EASA used the English translation in referencing the document from CEAPR. For enforceability purposes, we will cite references to the CEAPR service information as it appears on the document.

(ii) Reserved.

(3) For CEAPR service information identified in this AD, contact CEAPR, Bureau de Navigabilité, 1 route de Troyes, 21121 DAROIS-France, telephone: (33) 380 35 25 22; fax: (33) 380 35 25 25; email: www.info@ceapr.com; internet: http://ceapr.com/.

(4) You may view this service information at the FAA, Small Airplane Directorate, 901 Locust, Kansas City, Missouri 64106. For information on the availability of this material at the FAA, call (816) 329-4148.

(5) You may view this service information that is incorporated by reference at the National Archives and Records Administration (NARA). For information on the availability of this material at NARA, call 202-741-6030, or go to: http://www.archives.gov/federal-register/cfr/ibr-locations.html.

Issued in Kansas City, Missouri, on August 29, 2014.
Earl Lawrence,
Manager, Small Airplane Directorate, Aircraft Certification Service.

[FR Doc. 2014-21270 Filed 9-11-14; 8:45 am]

BILLING CODE 4910-13-P